SECURITIES AND EXCHANGE COMMISSION

[OMB Control No. 3235-0105]

Submission for OMB Review; Comment Request; Extension: Form T-3 Application for Qualification of an Indenture Under the Trust Indenture Act of 1939

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget this request for extension of the previously approved collections of information discussed below.

Form T-3 (17 CFR 269.3) is an application for qualification of an indenture under the Trust Indenture Act of 1939 (15 U.S.C. 77aaa et seq.). The information provided under Form T-3 is used by the Commission to determine whether to qualify an indenture relating to an offering of debt securities that is not required to be registered under the Securities Act of 1933 (15 U.S.C. 77a et seq.). The information required by Form T-3 is mandatory. Form T-3 is publicly available on EDGAR. We estimate that Form T-3 takes approximately 43 hours per response and that there is an average of 8 responses annually. We estimate that 25% of the 43 burden hours per response is prepared by the filer for an internal burden of 88 hours ((0.25 × 43) hours per response × 8 responses).

An agency may not conduct or sponsor, and a person is not required to respond to, a collection of information unless it displays a currently valid OMB control number.

Written comments are invited on: (a) whether this proposed collection of information is necessary for the proper performance of the functions of the SEC, including whether the information will have practical utility; (b) the accuracy of the SEC's estimate of the burden imposed by the proposed collection of information, including the validity of the methodology and the assumptions used; (c) ways to enhance the quality, utility, and clarity of the information to be collected; and (d) ways to minimize the burden of the collection of information on respondents, including through the use of automated, electronic collection techniques or other forms of information technology.

The public may view and comment on this information collection request at: https://www.reginfo.gov/public/do/PRAViewICR?ref_nbr=202502-3235-006 or send an email comment to MBX.OMB.OIRA.SEC_desk_officer@omb.eop.gov within 30 days of the day after publication of this notice, by July 25, 2025.

Dated: June 18, 2025.
Sherry R. Haywood,
Assistant Secretary.

[FR Doc. 2025-11515 Filed 6-23-25; 8:45 am]

BILLING CODE 8011-01-P